DEPARTMENT OF AGRICULTURE

Forest Service

Information Collection; Interagency Generic Clearance for Federal Land Management Agencies Collaborative Visitor Feedback Surveys on Recreation and Transportation Related Programs and Systems

AGENCY: Forest Service, USDA.

ACTION: Notice; request for comment.

SUMMARY: In accordance with the Paperwork Reduction Act of 1995, the Forest Service is seeking comments from all interested individuals and organizations on the renewal of an information collection, Federal Land Management Agencies (FLMAs) Collaborative Visitor Transportation Information Collections.

DATES: Comments must be received in writing on or before May 22, 2017 to be assured of consideration. Comments received after that date will be considered to the extent practicable.

ADDRESSES: Comments concerning this notice should be addressed to Margaret Petrella, The Volpe Center (RVT-321), 55 Broadway Street, Cambridge, MA 02142. All responses to this notice will be summarized and included in the request for Office of Management and Budget (OMB) approval. All comments will become a matter of public record.

Comments also may be submitted via facsimile to (617) 494-3522 or by email to: Margaret.Petrella@dot.gov.

The public may inspect comments received at 55 Broadway Street, Cambridge, MA 02142 in Room 3-67 during normal business hours. Visitors are encouraged to call ahead to 617-494-3582 to facilitate entry to the building.

FOR FURTHER INFORMATION CONTACT: Margaret Petrella, Social Scientist, U.S. Department of Transportation, The Volpe Center, (617) 494-3582.

Individuals who use telecommunication devices for the deaf (TDD) may call the Federal Relay Service (FRS) at 1-800-877-8339 twenty-four hours a day, every day of the year, including holidays.

SUPPLEMENTARY INFORMATION:

Title: Interagency Generic Clearance for Federal Land Management Agencies Collaborative Visitor Feedback Surveys on Recreation and Transportation Related Programs and Systems.

OMB Number: 0596-0236.

Expiration Date of Approval: November 30, 2017.

Type of Request: Renewal and revision of currently approved collection.

Abstract: From time to time, individual or combined units or subunits of various Federal Land Management Agencies (FLMAs) and/or FLMA Research Station units need to acquire direct visitor and authorized user feedback about site- or area-specific services, facilities, road and/or travel systems, needs, programs, demographics, management of FLMA lands, and/or other quantitative information on FLMA lands in cross-jurisdictional landscapes. FLMAs include, but are not limited to: USDA-Forest Service; National Park Service; Bureau of Land Management; US Fish & Wildlife Service; US Geological Survey; US Army Corps of Engineers; Presidio Trust and Bureau of Reclamation. This direct feedback is vital to establish and/or revise goals and objectives for FLMA recreation-related transportation system programs to and within FLMA recreation sites/opportunities, to inform land management plans, and to facilitate interagency coordination across multijurisdictional landscapes, which will better meet the needs of the public and the resources under FLMA management.

The benefits of an FLMA interagency generic Information Collection (IC) would include significant public and agency time and cost savings. If multiple FLMAs in an area or landscape work jointly on one quantitative visitor feedback information collection under a generic clearance from OMB, there would be significant savings in government time and costs related to survey development and OMB survey approval, as well as savings in the costs of survey administration and data processing. In particular, the public burden would be diminished as the public would only need to respond to one jointly-sponsored survey, instead of to multiple similar surveys at multiple units in an area.

Under the following authorities, the participating FLMAs are obligated to actively solicit public input to improve public lands management to better serve the public:

1. Forest Service Administration Organic Act of 1897 [16 U.S.C. 473-478, 479-482, and 551] as amended by the Transfer Act of 1905 [16 U.S.C. 472, 524, 554];

2. Multiple Use Sustained Yield Act of 1960 [Pub. L. 86-15, § 3];

3. Forest and Rangeland Renewable Resources and Planning Act of 1974 [Pub. L. 93-378 § 3(2,3)] as amended;

4. National Forest Management Act of 1976 [Pub. L. 94-588, §§ 2(3), 6(d)], as amended;

5. Government Performance and Results Act of 1993 [Pub. L. 103-62] as amended;

6. Executive Order 12862 of September 11, 1993;

7. Executive Order 13571 of April 27, 2011;

8. Executive Act 12996 of March 25, 1996;

9. National Park Services Act of 1916;

10. National Wildlife Refuge System Administration Act;

11. National Wildlife Refuge System Centennial Act [Pub. L. 106-408];

12. The Federal Land Policy and Management Act (FLPMA) of 1976;

13. General Survey Act of 1824; and

14. National Environmental Policy Act of 1969.

Survey respondents would include visitors and potential visitors to FLMA units or subunits, and residents of communities in or near FLMA units. Since many of the FLMA surveys are similar in terms of the populations being surveyed, the types of questions being asked, the research methodologies being used, and the database structures and data being utilized, the FLMAs propose a generic Interagency Information Collections clearance from OMB to obtain quantitative and/or qualitative visitor/user feedback utilizing collection mechanisms such as surveys, focus groups, and/or interviews.

Information collection could occur at one location, several locations, across FLMA units, across regions, across the nation, and could be multi-jurisdictional at any of these levels. Information collection activities could occur once, could occur as iterative collections over a limited period of time, or could occur over long periods of time at some periodic, planned time interval. Direct visitor feedback could be collected through facilitated focus groups or through surveys or individual interviews (qualitative or quantitative), with either electronically-recorded or hand-written responses, via mail-back, or via internet, apps, or social media electronic surveys (e.g., Quick Response (QR) codes on Smartphones). Survey or interview information could be collected at pertinent site(s) or access point(s) as visitors arrive or complete their visit(s) or are in the midst of their activities; and could be collected pre- or post-visit.

In general, questions will relate to visitor experience at one or more specific locations or locales (one FLMA's lands or multi-jurisdictional) and could address one or more of the following key categories, identified as goal areas in FLMA planning documents:

• Mobility and access (for example, different modes used to access sites; satisfaction with transportation related services and facilities; use and satisfaction with traveler information; reasons for non-visitation)

• System management (for example, support for different management policies)

• Safety (for example, safety concerns prior or during trip, safety-related incidents that occurred)

• Environment (for example, visitor priorities with respect to natural and cultural resources; perceptions related to sound)

• Economic development (for example, amount visitors spend within the area)

• Visitor/user demographics (for example, home city and state, age group, gender, race, number of people/vehicles in party)

• Trip characteristics (for example, length of trip, trip purpose, activities and destinations)

To ensure anonymity, if any personally-identifiable information (PII) is collected, PII will not be stored with contact information at any time, and contact information will be purged from researchers' files once data collections are complete.

Participation in surveys will be strictly voluntary. The information could be collected by FLMA personnel, or by private contractors, other government agency partners, or universities or other educational institutions conducting the information collection on behalf of the FLMAs. The data collected would provide managers with reliable information to better serve the public, by better-informing strategic planning; allocations of physical, fiscal, or human resources; modification or refinement of various program management goals and objectives or management plan revisions; and future planning efforts focused on developing more effective and efficient delivery of program services, whether on one or several unit(s) or at an interagency, cross-jurisdictional scope. FLMAs may also get requests for this kind of information from the general public and/or a variety of organizations including Congressional staffs, newspapers, magazines, and transportation and/or recreational trade organizations.

Primary analysis of the information could be conducted by FLMA staff or by one or more research station(s), or by private contractors, other government agency partners, or universities or other educational institutions doing the analyses on behalf of the FLMA. All results will be aggregated so specific responses cannot be correlated to specific respondents.

The information collected, including approved survey instruments, final reports, and data will be archived in a shared database that can be accessed by all FLMAs. In this way, FLMAs will be kept informed about the survey efforts of their partner agencies and can use the results to inform the development of their own surveys, thus reducing the duplication of effort and public burden. In addition, analyzed data could be shared among other agencies, stakeholders, educational institutions, interested parties, or the public through written or electronic reports. FLMA units will use this information to inform strategic planning, allocation of resources, revisions of management program goals and objectives, revisions of Land Management Plans, and long-range planning with statistically-reliable, visitor input data necessary to help FLMA units provide their customers with better service and coordinate more effectively across jurisdictions.

Without these joint, coordinated information collections, the FLMAs will continue to lack the information necessary to identify and implement feasible and publicly-accepted transportation and other facility and service improvements to help protect public land resources and enhance visitor experience. These joint information collections will become ever more important as FLMA budgets continue to shrink and demand for access to FLMA recreation sites and opportunities continue to grow. These information collections will directly impact FLMA resources and visitor experience quality, and help the FLMAs meet their various resource, recreation, and transportation management mandates.

Estimate of Annual Burden: Under a generic IC, the number of respondents will differ for each individual survey, depending on the purpose and design of each information collection. Therefore, the number of respondents is necessarily an estimate. The number of responses can be estimated as approximately 70% of the number of respondents approached, based on previous administrations of similar surveys in various FLMA units. Respondents will be asked to respond only one time. Overall, we assume 1200 respondents per survey effort, 10 respondents per focus group effort, 50 respondents per interview effort, and 500 comment cards per comment card effort. The burden of time to respond one time will vary, depending on the methodology employed. Surveys are estimated at approximately 15 minutes per person, based on previous administrations of similar surveys in various FLMA units; focus groups are estimated at 90 minutes per person; interviews are estimated at 30 minutes each; and comment cards are estimated at 3 minutes per person.

Type of Respondents: Visitors or potential visitors to, or residents near, lands managed by one FLMA or by multiple FLMAs in cross-jurisdictional landscapes (e.g., Bureau of Land Management, U.S. Fish and Wildlife Service, National Park Service).

Estimated Annual Number of Respondents: 23,300.

Estimated Annual Number of Responses per Respondent: One.

Estimated Burden per Response: 15 minutes (survey); 90 minutes (focus group); 30 minutes (interview); 3 minutes (comment card)

Estimated Total Annual Burden on Respondents: 5,085 hours.

Comment Is Invited

Comment is invited on:

(1) Whether this collection of information is necessary for the stated purposes and the proper performance of the functions of the FLMAs, including whether the information will have practical or scientific utility;

(2) the accuracy of the FLMAs' estimate of the burden of the collection of information, including the validity of the assumptions used;

(3) ways to enhance the quality, utility, and clarity of the information to be collected; and

(4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: February 24, 2017.
Lenise Lago,
Deputy Chief, Business Operations.

[FR Doc. 2017-05653 Filed 3-21-17; 8:45 am]

BILLING CODE 3411-15-P